Title 3—

The President

Executive Order 13296 of April 18, 2003

Amendments to Executive Order 13045, Protection of Children From Environmental Health Risks and Safety Risks

By the authority vested in me as President by the Constitution and the laws of the United States of America, and in order to extend the Task Force on Environmental Health Risks and Safety Risks to Children, and for other purposes, it is hereby ordered that Executive Order 13045 of April 21, 1997, as amended, is further amended as follows:

Section 1. Subsection 3-303(o) is amended by striking “Assistant to the President and”.

Sec. 2. Section 3-305 is amended by:

(a) striking “cabinet agencies and other agencies identified” and inserting in lieu thereof “executive departments, the Environmental Protection Agency, and other agencies identified”; and

(b) inserting the following new language after the second sentence: “Each report shall also detail the accomplishments of the Task Force from the date of the preceding report.”

Sec. 3. Section 3-306 is amended by:

(a) striking “6 years” and inserting in lieu thereof “8 years”; and

(b) striking the second sentence.

Sec. 4. Section 6-601, the second sentence, is amended by deleting “an annual” and inserting “a biennial” in lieu thereof.

Sec. 5. Section 6-603, the third sentence, is amended by deleting “submitted annually” and inserting “published biennially” in lieu thereof.

Sec. 6. Section 7 is amended by adding new section 7-703 as follows: “7-703. Nothing in this order shall be construed to impair or otherwise affect the functions of the Director of the Office of Management and Budget relating to budget, administrative, or legislative proposals.”

B

THE WHITE HOUSE,

April 18, 2003.

[FR Doc. 03-10194

Filed 4-22-03; 8:45 am]

Billing code 3195-01-P